DEPARTMENT OF COMMERCE

International Trade Administration

[A-533-928]

Ceramic Tile From India: Final Negative Determination of Sales at Less Than Fair Value and Final Negative Determination of Critical Circumstances

AGENCY: Enforcement and Compliance, International Trade Administration, Department of Commerce.

SUMMARY: The U.S. Department of Commerce (Commerce) determines that ceramic tile from India is not being, or is not likely to be, sold in the United States at less than fair value (LTFV). The period of investigation is April 1, 2023, through March 31, 2024.

DATES: Applicable April 23, 2025.

FOR FURTHER INFORMATION CONTACT: Theodora Mattei, AD/CVD Operations, Office VI, Enforcement and Compliance, International Trade Administration, U.S. Department of Commerce, 1401 Constitution Avenue NW, Washington, DC 20230; telephone: (202) 482-4834.

SUPPLEMENTARY INFORMATION:

Background

On December 2, 2024, Commerce published the Preliminary Determination in the Federal Register and invited interested parties to comment.¹ A summary of the events that occurred since Commerce published its Preliminary Determination, may be found in the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Ceramic Tile from India: Preliminary Negative Determination of Sales at Less Than Fair Value and Postponement of Final Determination, 89 FR 95182 (December 2, 2024) (Preliminary Determination), and accompanying Preliminary Decision Memorandum (PDM).

² See Memorandum, “Issues and Decision Memorandum for the Final Negative Determination in the Less-Than-Fair-Value Investigation of Ceramic Tile from India,” dated concurrently with, and herby adopted by, this notice (Issues and Decision Memorandum).

Scope of the Investigation

The product covered by this investigation is ceramic tile from India. For a complete description of the scope of this investigation, see Appendix I.

Scope Comments

We received no comments from interested parties on the scope of the investigation as it appeared in the Preliminary Determination. Therefore, we made no changes to the scope of the investigation.

Analysis of Comments Received

All issues raised in the case and rebuttal briefs submitted by interested parties in this investigation are addressed in the Issues and Decision Memorandum. A list of the issues addressed in the Issues and Decision Memorandum is attached as Appendix II to this notice.

Verification

As provided in section 782(i)(1) of the Tariff Act of 1930, as amended (the Act), in October 2024, we verified the sales and cost information submitted by Antiqa Minerals (Antiqa) and Win-Tel Ceramics Private Limited (Win-Tel) for use in our final determination.³ We used standard verification procedures, including an examination of relevant sales and accounting records, and original source documents provided by Antiqa and Win-Tel.

³ See Memoranda, “Verification of the Sales Response of Win-Tel Ceramics Private Limited,” and “Sales Verification Report for Antiqa Minerals,” both dated March 14, 2025.

Changes Since the Preliminary Determination

Based on our verification findings, a review of the record, and the comments received from interested parties regarding the Preliminary Determination, for this final determination we made certain changes to the margin calculations for both Antiqa and Win-Tel. For a discussion of these changes, see the Issues and Decision Memorandum.

Critical Circumstances

For this final determination, we find that Antiqa and Win-Tel have not made sales of subject merchandise at LTFV. Consequently, Commerce has not conducted a critical circumstances analysis for this final determination, pursuant to sections 735(a)(3) of the Act and 19 CFR 351.206. For further information on Commerce's critical circumstances analysis, see the section “Final Critical Circumstances Determination” in the Issues and Decision Memorandum.

Final Determination

Commerce determines that the following estimated dumping rates exist:

Company | Weighted- average dumping margin (percent) | Cash deposit rate (adjusted for subsidy offset(s)) (percent)
Antiqa Minerals | 0.00 | Not Applicable.
Win-Tel Ceramics Private Limited | 0.00 | Not Applicable.

Disclosure

Commerce intends to disclose to interested parties the calculations performed in connection with this final determination within five days of its public announcement or, if there is no public announcement, within five days of the date of publication of this notice in the Federal Register, in accordance with 19 CFR 351.224(b).

Suspension of Liquidation

In the Preliminary Determination, the estimated weighted-average dumping margins for Antiqa and Win-Tel were zero and, thus, we did not suspend liquidation of entries of ceramic tile from India. Because Commerce has made a final negative determination of sales at LTFV, we will not direct U.S. Customs and Border Protection to suspend liquidation or to require cash deposits of estimated antidumping duties for entries of ceramic tile from India.

U.S. International Trade Commission (ITC) Notification

In accordance with section 735(d) of the Act, Commerce will notify the ITC of its final negative determination of sales at LTFV. As our final determination is negative, this proceeding is terminated in accordance with section 735(c)(2) of the Act.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

This determination is issued and published pursuant to sections 735(d) and 777(i) of the Act, and 19 CFR 351.210(c).

Dated: April 16, 2025.
Christopher Abbott,
Deputy Assistant Secretary for Policy and Negotiations, performing the non-exclusive functions and duties of the Assistant Secretary for Enforcement and Compliance.

Appendix I

Scope of the Investigation

The merchandise covered by this investigation is ceramic flooring tile, wall tile, paving tile, hearth tile, porcelain tile, mosaic tile, flags, decorative tile, finishing tile, and the like (hereinafter ceramic tile). Ceramic tiles are articles containing a mixture of minerals including clay (generally hydrous silicates of alumina or magnesium) that are fired so the raw materials are fused to produce a tile that is less than 3.2 cm in thickness, exclusive of decorative features. All ceramic tile is subject to the scope regardless of end use, surface area, and weight, regardless of whether the tile is glazed or unglazed, regardless of the water absorption coefficient by weight, regardless of the extent of vitrification, and regardless of whether or not the tile is on a backing. Subject merchandise includes ceramic tile “slabs” or “panels” (tiles that are larger than 1 meter² (11 ft²)).

Subject merchandise includes ceramic tile that undergoes minor processing in a third country prior to importation into the United States. Similarly, subject merchandise includes ceramic tile produced that undergoes minor processing after importation into the United States. Such minor processing includes, but is not limited to, one or more of the following: beveling, cutting, trimming, staining, painting, polishing, finishing, additional firing, affixing a decorative surface to the tile, or any other processing that would otherwise not remove the merchandise from the scope of the investigation if performed in the country of manufacture of the in-scope product.

Subject merchandise is currently classified in the Harmonized Tariff Schedule of the United States (HTSUS) under the following subheadings of heading 6907: 6907.21.1005, 6907.21.1011, 6907.21.1051, 6907.21.2000, 6907.21.3000, 6907.21.4000, 6907.21.9011, 6907.21.9051, 6907.22.1005, 6907.22.1011, 6907.22.1051, 6907.22.2000, 6907.22.3000, 6907.22.4000, 6907.22.9011, 6907.22.9051, 6907.23.1005, 6907.23.1011, 6907.23.1051, 6907.23.2000, 6907.23.3000, 6907.23.4000, 6907.23.9011, 6907.23.9051, 6907.30.1005, 6907.30.1011, 6907.30.1051, 6907.30.2000, 6907.30.3000, 6907.30.4000, 6907.30.9011, 6907.30.9051, 6907.40.1005, 6907.40.1011, 6907.40.1051, 6907.40.2000, 6907.40.3000, 6907.40.4000, 6907.40.9011, and 6907.40.9051. Subject merchandise may also enter under subheadings of headings 6913, 6914, and 6905: 6913.90.2000, 6914.10.8000, 6914.90.8000, 6905.10.0000, and 6905.90.0050.

The HTSUS subheadings are provided for convenience and customs purposes only. The written description of the scope of the investigation is dispositive.

Appendix II

List of Topics Discussed in the Issues and Decision Memorandum

I. Summary

II. Background

III. Final Negative Determination of Critical Circumstances

IV. Scope of the Investigation

V. Changes Since the Preliminary Determination

VI. Discussion of the Issues

Comment 1: Whether Commerce Should Reject One of Antiqa's Minor Corrections and Apply Partial Adverse Facts Available (AFA)

Comment 2: Whether Commerce Should Reject Win-Tel's Minor Corrections and Apply Partial AFA

Comment 3: Whether Commerce Should Find Win-Tel Affiliated and Collapsed with Neelson Porselano LLP and Apply AFA

Comment 4: Whether Commerce Should Apply AFA to Antiqa because it Failed to Report its Several Affiliates as Producers of Ceramic Tile

Comment 5: Whether Commerce Should Find Antiqa Collapsed with Segam Tiles Pvt. Ltd. and Antiqa Marbonite Pvt. Ltd. and Apply AFA

Comment 6: Whether Commerce Should Apply AFA to Antiqa for Inadequate Reporting of Several Affiliated Input Suppliers

Comment 7: Whether Win-Tel Properly Reported Intercompany Transactions

Comment 8: Whether Win-Tel Properly Reported Scrap Offset

Comment 9: Whether Win-Tel Properly Reported Production Quantity

Comment 10: Whether Win-Tel Properly Reported Financial Expenses

VII. Recommendation

[FR Doc. 2025-06908 Filed 4-22-25; 8:45 am]

BILLING CODE 3510-DS-P